DEPARTMENT OF JUSTICE

Antitrust Division

Notice Pursuant to the National Cooperative Research and Production Act of 1993—ODVA, Inc.

Notice is hereby given that, on August 5, 2016, pursuant to section 6(a) of the National Cooperative Research and Production Act of 1993, 15 U.S.C. 301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Accutron Instruments Inc., Sudbury, Ontario, CANADA; Sumitomo Heavy Industries, Ltd., Tokyo, JAPAN; Control Chief Corporation, Bradford, PA; and nLIGHT, Inc., Vancouver, WA, have been added as parties to this venture.

Also, Smarteye Corporation, Rochester Hills, MI; HB-Softsolution, Kirchberg, AUSTRIA; Shanghai Huajian Electric Power Equipment Co., Ltd., Shanghai, PEOPLE'S REPUBLIC OF CHINA; KWANGIL Electric Wire Co., Ltd., Gyeonggi-do, REPUBLIC OF KOREA; and CSE Servelec, Sheffield, South Yorkshire, UNITED KINGDOM, have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on May 12, 2016. A notice was published in the Federal Register pursuant to section 6(b) of the Act on June 21, 2016 (81 FR 40352).

Patricia A. Brink,
Director of Civil Enforcement, Antitrust Division.

[FR Doc. 2016-21223 Filed 9-1-16; 8:45 am]

BILLING CODE P